DEPARTMENT OF HOMELAND SECURITY

U.S. Customs and Border Protection

Notice of Reinstatement of Customs Broker License

AGENCY: U.S. Customs and Border Protection, Department of Homeland Security.

ACTION: Reinstatement of customs broker license.

SUMMARY: Notice is hereby given that a customs broker's license has been reinstated.

SUPPLEMENTARY INFORMATION: In a notice published in the Federal Register (77 FR 72873) on December 6, 2012, U.S. Customs and Border Protection, pursuant to section 641 of the Tariff Act of 1930, as amended (19 U.S.C. 1641), and section 111.30(d) of title 19 of the Code of Federal Regulations (19 CFR 111.30(d)), revoked the following customs broker license by operation of law without prejudice. Notice is hereby given that the below identified customs broker license has been reinstated and is currently active.

Last name | First name | License No. | Port of issuance
Santos | Pablo | 17201 | Chicago.

Dated: August 2, 2013.
Richard F. DiNucci,
Deputy Assistant Commissioner, Office of International Trade.

[FR Doc. 2013-19127 Filed 8-7-13; 8:45 am]

BILLING CODE 9111-14-P